DEPARTMENT OF HEALTH AND HUMAN SERVICES

Centers for Disease Control and Prevention

Board of Scientific Counselors, National Center for Infectious Diseases: Meeting

In accordance with section 10(a)(2) of the Federal Advisory Committee Act (Pub. L. 92-463), the Centers for Disease Control and Prevention (CDC) announces the following committee meeting.

Name: Board of Scientific Counselors, National Center for Infectious Diseases (NCID).

Time and Date: 8:30 a.m.—3:30 p.m., December 12-13, 2002.

Place: CDC, Auditorium B, Building 1, Clifton Road, Atlanta, Georgia 30333.

Status: Open to the public, limited only by the space available.

Purpose: The Board of Scientific Counselors, NCID, provides advice and guidance to the Director, CDC, and Director, NCID, in the following areas: Program goals and objectives; strategies; program organization and resources for infectious disease prevention and control; and program priorities.

Matters to be Discussed: Agenda items will include:

1. Opening Session: NCID Update

a. Institute of Medicine

b. Global Strategy

c. Budget

2. Program Update:

a. West Nile

b. Prion Disease

c. Influenza Pandemic Planning

d. Polio Lab Survey

3. Bioterrorism Updates and Discussion

a. Organizational Update

b. Smallpox

c. Quarantine

d. Global Health Security

4. Board meets with Director, CDC

5. Discussions and Recommendations

Other agenda items include announcements/introductions; follow-up on actions recommended by the Board May 2002; consideration of future directions, goals, and recommendations.

Agenda items are subject to change as priorities dictate.

Written comments are welcome and should be received by the contact person listed below prior to the opening of the meeting.

Contact Person for More Information: Tony Johnson, Office of the Director, NCID, CDC, M/S C-19, 1600 Clifton Road, NE., Atlanta, Georgia 30333, email tjohnson3@cdc.gov; telephone 404/639-0100.

The Director, Management Analysis and Services Office, has been delegated the authority to sign Federal Register notices pertaining to announcements of meetings and other committee management activities, for both the Centers for Disease Control and Prevention and the Agency for Toxic Substances and Disease Registry.

Dated: November 12, 2002.
Burma Burch,
Acting Director, Management Analysis and Services Office, Centers for Disease Control and Prevention.

[FR Doc. 02-29154 Filed 11-15-02; 8:45 am]

BILLING CODE 4163-18-P